DEPARTMENT OF COMMERCE

International Trade Administration

[Application No. 84-36A12]

Export Trade Certificate of Review

ACTION: Notice of application for an amended Export Trade Certificate of Review for Northwest Fruit Exporters, Application No. 84-36A12.

SUMMARY: The Secretary of Commerce, through the Office of Trade and Economic Analysis (OTEA) of the International Trade Administration, has received an application for an amended Export Trade Certificate of Review (Certificate). This notice summarizes the proposed amendment and seeks public comments on whether the Certificate should be issued.

FOR FURTHER INFORMATION CONTACT: Amanda Reynolds, Acting Director, OTEA, International Trade Administration, (202) 482-5131 (this is not a toll-free number) or email at etca@trade.gov.

SUPPLEMENTARY INFORMATION: Title III of the Export Trading Company Act of 1982 (15 U.S.C. 4011-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether a Certificate should be issued. If the comments include any privileged or confidential business information, it must be clearly marked and a nonconfidential version of the comments (identified as such) should be included. Any comments not marked as privileged or confidential business information will be deemed to be nonconfidential.

Written comments should be sent to ETCA@trade.gov. An original and two (2) copies should also be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the Certificate. Comments should refer to this application as “Export Trade Certificate of Review, application number 84-36A12.”

Summary of the Application

Applicant: Northwest Fruit Exporters, 105 S 18th St., Suite 105 Yakima, WA 98901.

Contact: Riley Bushue, Manager.

Application No.: 84-36A12.

Date Deemed Submitted: July 25th, 2025.

Proposed Amendment: Northwest Fruit Exporters seeks to amend its Certificate as follows:

1. Change the Export Product coverage of the following Members of the Certificate:

• Pine Canyon Growers LLC changes Export Product coverage from fresh apples to fresh apples and fresh sweet cherries (adding fresh sweet cherries).

Northwest Fruit Exporters' proposed amendment of its Certificate would result in the following Membership list:

1. Allan Bros., Naches, WA

2. AltaFresh L.L.C. dba Chelan Fresh Marketing, Chelan, WA

3. Apple House Warehouse & Storage, Inc., Brewster, WA

4. Apple King, L.L.C., Yakima, WA

5. Auvil Fruit Co., Inc. dba Gee Whiz II, LLC, Orondo, WA

6. Baker Produce, Inc., Kennewick, WA

7. Blue Bird, Inc., Peshastin, WA

8. Borton & Sons, Inc., Yakima, WA

9. Brewster Heights Packing & Orchards, LP dba Gebbers Farms, Brewster, WA

10. Chelan Fruit, Chelan, WA

11. Chiawana, Inc. dba Columbia Reach Pack, Yakima, WA

12. Chuy's Cherries LLC, Mattawa, WA

13. CMI Orchards LLC, Wenatchee, WA

14. Columbia Fresh Packing LLC, Kennewick, WA

15. Congdon Packing Co. L.L.C., Yakima, WA

16. Cowiche Growers, Inc., Cowiche, WA

17. CPC International Apple Company, Tieton, WA

18. Crane Ranch, Brewster, WA

19. Custom Apple Packers, Inc., Quincy & Wenatchee, WA

20. Diamond Fruit Growers Inc., Odell, OR

21. Domex Superfresh Growers LLC, Yakima, WA

22. Douglas Fruit Company, Inc., Pasco, WA

23. Dovex Export Company, Wenatchee, WA

24. Duckwall Fruit, Odell, OR

25. E. Brown & Sons, Inc., Milton-Freewater, OR

26. E.W. Brandt & Sons, Inc., Parker, WA

27. Evans Fruit Co., Inc., Yakima, WA

28. FirstFruits Farms, LLC, Prescott, WA

29. G&G Orchards, Inc., Yakima, WA

30. Gilbert Orchards, Inc., Yakima, WA

31. Hansen Fruit & Cold Storage Co., Inc., Yakima, WA

32. Henggeler Packing Co., Inc., Fruitland, ID

33. Honeybear Growers, LLC, Brewster, WA

34. Hood River Cherry Company, Hood River, OR

35. JackAss Mt. Ranch, Pasco, WA

36. Jenks Bros Cold Storage & Packing, Royal City, WA

37. Kershaw Fruit & Cold Storage, Co., Yakima, WA

38. L & M Companies, Union Gap, WA

39. Lateral Roots Farm, LLC, Wapato, WA

40. Legacy Fruit Packers LLC, Wapato, WA

41. Manson Growers, Manson, WA

42. Matson Fruit Company, Selah, WA

43. McDougall & Sons, Inc., Wenatchee, WA

44. Monson Fruit Co., LLC, Selah, WA

45. Morgan's of Washington dba Double Diamond Fruit, Quincy, WA

46. New Columbia Fruit Packers, LLC, Wenatchee, WA

47. Northern Fruit Company, Inc., Wenatchee, WA

48. Olympic Fruit Co., Moxee, WA

49. Orchard View Farms, Inc., The Dalles, OR

50. Pacific Coast Cherry Packers, LLC, Yakima, WA

51. Piepel Premium Fruit Packing LLC, East Wenatchee, WA

52. Pine Canyon Growers LLC, Orondo, WA (for fresh apples and fresh sweet cherries)

53. Polehn Farms, Inc., The Dalles, OR

54. Price Cold Storage & Packing Co., Inc., Yakima, WA

55. Quincy Fresh Fruit Co., Quincy, WA

56. Rainier Fruit Company, Selah, WA

57. River Valley Fruit, LLC., Grandview, WA

58. Roche Fruit, LLC, Yakima, WA

59. Sage Fruit Company, L.L.C., Yakima, WA

60. Stemilt Growers, LLC, Wenatchee, WA

61. Symms Fruit Ranch, Inc., Caldwell, ID

62. The Dalles Fruit Company, LLC, Dallesport, WA

63. Underwood Fruit & Warehouse Co., Bingen, WA

64. Valicoff Fruit Company, Inc, Wapato, WA

65. Washington Cherry Growers, Peshastin, WA

66. Washington Fruit & Produce Co., Yakima, WA

67. Western Sweet Cherry Group, LLC, Yakima, WA

68. Whitby Farms, Inc. dba: Farm Boy Fruit Snacks LLC, Mesa, WA

69. WP Packing LLC, Wapato, WA

70. Yakima Fruit & Cold Storage Co., Yakima, WA

71. Zirkle Fruit Company, Selah, WA

Dated: August 4, 2025.
Amanda Reynolds,
Acting Director, Office of Trade and Economic Analysis, International Trade Administration, U.S. Department of Commerce.

[FR Doc. 2025-14895 Filed 8-5-25; 8:45 am]

BILLING CODE 3610-DR-P